DEPARTMENT OF COMMERCE

Foreign-Trade Zones Board

[B-75-2013]

Foreign-Trade Zone (FTZ) 38—Spartanburg County, South Carolina, Notification of Proposed Production Activity, Black & Decker (U.S.) Inc., (Power Tools), Fort Mill, South Carolina

Black & Decker (U.S.) Inc. (Black & Decker) submitted a notification of proposed production activity to the FTZ Board for its facility in Fort Mill, South Carolina within Subzone 38E. The notification conforming to the requirements of the regulations of the FTZ Board (15 CFR 400.22) was received on July 19, 2013.

The Black & Decker facility is located within Subzone 38E. The facility is used for the manufacturing of power tool parts and components, the manufacture and assembly of power tools, the packaging and kitting of power tools and the repair and rework of power tools, parts and accessories. Pursuant to 15 CFR 400.14(b), FTZ activity would be limited to the specific foreign-status materials and components and specific finished products described in the submitted notification (as described below) and subsequently authorized by the FTZ Board.

Production under FTZ procedures could exempt Black & Decker from customs duty payments on the foreign status components used in export production. On its domestic sales, Black & Decker would be able to choose the duty rates during customs entry procedures that apply to miter saws, drills (with a self-contained motor), saws (with a self-contained motor), grinders, polishers, sanders, screwdrivers, nut-runners, impact wrenches, impact drivers, routers, planers, grass and weed trimmers/edgers, electro-pneumatic rotary and percussion hammers, electric scissors, circle cutters, spindles, gears, sleeve bearings, motors (cordless), SA armatures and work lights (duty rate ranges from duty-free to 12.5%) for the foreign status inputs noted below. Customs duties also could possibly be deferred or reduced on foreign status production equipment.

The components and materials sourced from abroad include: Resins (colored pigments); paints; inks; grease; adhesives; loctite; polyethylene, polypropylene, polystyrene, ABS, acetyl, epoxy powder, polycarbonate, polyethylene terephthalate, polyester, saturated polyester, glass filled nylon and polyamide resins; nylon tape; plastic hoses; flexible hoses; nameplates; transparent tapes; ID labels; plastic labels; tape; film stretch; plastic cases; poly-bags; battery caps; blister packs; shrink-heat tubing; plastic handles and knobs; O-rings; seals; washers; retaining clips; chuck key holders; cord protectors; nuts; spacers/fasteners; drive belts; Styrofoam; rubber tubing and hoses; backing pads; caps plugs; polisher pads; tool bags; kit boxes; wood pallets; wood biscuits; corrugated sheets; corrugated cartons; non-corrugated cartons; sleeves; hang tags; labels; fillers; gaskets; paper gaskets; seals; corner posts; instruction/owner manuals; heat transfer labels; blister cards; advertising flyers; leaflets; bulletins; warranty cards; survey cards; slot liners; mower, sander and planer filter bags; sander pads; felt washers and seals; grinding wheels; sanding discs; iron/metal powder; non-alloyed steel; steel; chains; bolts; screws; hardware bag assemblies; lock nuts; nuts; rivets; cotters; cotter pins; retaining rings; snap rings; blade locks; fastener pins; leaf, helical/coil and other springs; wire forms; flanges; backing flanges; rip fences; clips; brass strips; articles of aluminum die-casting; magnesium ingots; bandsaw, circular saw, jigsaw, cutsaw and other blades; wrenches; chuck keys; socket wrenches; clamps; punch/punch & die; drill bits; dies; die kits; loose keys; solders; solder wire; prepared solder bars; parts of inflator fans; mobile bases; wheels for lawnmowers; drill chucks; circle cutters; clamps for stationary tools; parts of work holders; tables and wings for saws; base/cutting arms; brackets, handles, knobs and parts of stationary tools; guards; parts of tools; parts for pneumatic nailers; actuators; bearing plates; bearing retainers; bearing supports; blade clamps; button switches; clamps; cord retainers; counterweights; cover plates; end caps; handles/switch covers; housings; field cases; lock buttons; parts of power tools; circular saw quadrants; shields; jigsaw shoe/plates; triggers; cord clamps; gear cases; dust shields; thrust bearings; ball bearings; needle roller bearings; cylindrical bearings; bearing parts; spindles; transmission shafts; bearing blocks, plates and housings; bearing retainer housings; bearing bushings; bearing sleeves; sintered metal; gear boxes; SA transmission assemblies; transmissions; sprockets; pulleys; clutches; gearcase covers; pinions; reciprocating shafts; yokes; balls for clutches and transmissions; transmission parts; gears; gear blanks; metal seals; cordless, corded and single phase motors; commutators; armature shafts; armatures; brush assemblies; brush boxes; plates; rings; holders; capacitor assemblies; fields; laminations for motors; motor cans; transformers; charges; inverters; laminations for transformers; parts of chargers; magnets; magnetic chucks; lead-acid, power pack, NiMH and lithium ion batteries; SA battery packs; car/hand vacuum filter bags; vacuum parts; flashlight lenses; reflector SA for flashlights; sensormatic security tags; SA terminal boards; fuses; PC terminal boards; switches; terminals/terminations; contacts for switches; terminal boards; electronic modules and controls; PC boards; printed circuit assemblies/SA modules; paddles; switch parts; flashlight bulbs; fluorescent lights/tubes; laser and light-emitting diodes; diodes; magnet wires; cordsets; lead wire assemblies; lead wire; brushes; ceramic insulators; end fibers; end punching; end rings; insulators; insulating tube; mylar paper; wire nuts; coil-wound chokes; ceramic insulating fittings; terminal blocks; miter and planer (all mechanical) gauges; air pressure gauges; tachometers; levels; miter and scroll saw stands; and, brushes for vacuums (duty rate ranges from duty-free to 20%). The request indicates that inputs classified under HTSUS Subheadings 4202.92, 5911.90 and 6307.90 will be admitted to the zone in privileged foreign status (19 CFR 146.41), thereby precluding inverted tariff benefits on such items.

Public comment is invited from interested parties. Submissions shall be addressed to the Board's Executive Secretary at the address below. The closing period for their receipt is September 9, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For Further Information Contact: Elizabeth Whiteman at Elizabeth.Whiteman@trade.gov or (202) 482-0473.

Dated: July 24, 2013.
Andrew McGilvray,
Executive Secretary.

[FR Doc. 2013-18289 Filed 7-29-13; 8:45 am]

BILLING CODE 3510-DS-P